DEPARTMENT OF VETERANS AFFAIRS

Veterans Health Administration

Funding Availability Under Supportive Services for Veteran Families Program

AGENCY: Department of Veterans Affairs (VA).

ACTION: Notice of Funding Availability (NOFA).

SUMMARY: Funding Opportunity Title: Supportive Services for Veteran Families (SSVF) Program.

Announcement Type: Initial.

Funding Opportunity Number: VA-SSVF-123013.

Catalog of Federal Domestic Assistance Number: 62.033.

DATES: Applications for supportive services grants under the SSVF Program must be received by the SSVF Program Office by 4:00 p.m. Eastern Time on March 14, 2014. Awards made for Priority 1 supportive services grants will fund operations over a non-renewable 3-year period beginning October 1, 2014. Awards made for Priority 2 and 3 supportive services grants will fund operations for the fiscal year beginning October 1, 2014.

See section II for definitions of Priorities 1-3.

VA is announcing the availability of funds for supportive services grants under the SSVF Program. This NOFA contains information concerning the SSVF Program, initial and renewal supportive services grant application processes, and amount of funding available.

Dates & Addresses: Applications for supportive services grants under the SSVF Program must be received by the SSVF Program Office by 4:00 p.m. Eastern Time on March 14, 2014. In the interest of fairness to all competing applicants, this deadline is firm as to date and hour, and VA will treat as ineligible for consideration any application that is received after the deadline. Applicants should take this practice into account and make early submission of their materials to avoid any risk of loss of eligibility brought about by unanticipated delays, computer service outages, or other delivery-related problems.

For a Copy of the Application Package: Copies of the application can be downloaded directly from the SSVF Program Web site at: www.va.gov/homeless/ssvf.asp. Questions should be referred to the SSVF Program Office via phone at (877) 737-0111 (toll-free number) or via email at SSVF@va.gov. For detailed SSVF Program information and requirements, see 38 CFR part 62.

Submission of Application Package: Two completed, collated, hard copies of the application and two compact discs (CD) containing electronic versions of the entire application are required. Each application copy must (i) be fastened with a binder clip; and (ii) contain tabs listing the major sections of and exhibits to the application. Each CD must be labeled with the applicant's name and must contain an electronic copy of the entire application. A budget template must be attached in Excel format on the CD, but all other application materials may be attached in a PDF or other format. The application copies and CDs must be submitted to the following address: Supportive Services for Veteran Families Program Office, National Center on Homelessness Among Veterans, 4100 Chester Avenue, Suite 201, Philadelphia, PA 19104. Applicants must submit two hard copies and two CDs. Applications may not be sent by facsimile (FAX). Applications must be received in the SSVF Program Office by 4:00 p.m. Eastern Time on the application deadline date. Applications must arrive as a complete package. Materials arriving separately will not be included in the application package for consideration and may result in the application being rejected. See Section II.C. of this NOFA for maximum allowable grant amounts.

Technical Assistance: Information regarding how to obtain technical assistance with the preparation of an initial or renewal supportive services grant application is available on the SSVF Program Web site at: http://www.va.gov/HOMELESS/SSVF.asp.

FOR FURTHER INFORMATION CONTACT: John Kuhn, Supportive Services for Veteran Families Program Office, National Center on Homelessness Among Veterans, 4100 Chester Avenue, Suite 201, Philadelphia, PA 19104; (877) 737-0111 (this is a toll-free number); SSVF@va.gov.

SUPPLEMENTARY INFORMATION:

I. Funding Opportunity Description

A. Purpose: The SSVF Program's purpose is to provide supportive services grants to private non-profit organizations and consumer cooperatives who will coordinate or provide supportive services to very low-income Veteran families who: (i) Are residing in permanent housing, (ii) are homeless and scheduled to become residents of permanent housing within a specified time period, or (iii) after exiting permanent housing within a specified time period, are seeking other housing that is responsive to such very low-income Veteran family's needs and preferences.

B. Funding Priorities: The overriding goal for this NOFA is to ensure that appropriate levels of resources are provided to communities with the greatest need to end Veteran homelessness. Under Priority 1, VA will provide up to $300 million over a 3-year period for non-renewable grants to eligible entities proposing services for one of the 76 priority Continuums of Care (CoC) listed below. VA has designed this 3-year effort to provide a surge of resources in communities with the highest need. These 76 locations have been selected based on factors that include current unmet service needs, levels of Veteran homelessness, levels of Veteran poverty, and the overall size of the Veteran population. Priority 2 is for existing SSVF Program grantees seeking to renew their supportive services grants. To be eligible for renewal of a supportive services grant, the grantee's program concept must be substantially the same with the program concept of the grantee's current grant award. Priority 3 is for eligible entities applying for initial supportive services grants.

C. Definitions: Sections 62.2 and 62.11(a) of title 38, Code of Federal Regulations, contain definitions of terms used in the SSVF Program. In addition to the definitions included in those sections, this NOFA includes two program areas: Emergency Housing Assistance and General Housing Stability Assistance.

Emergency Housing Assistance means the provision of up to 30 days of temporary housing that does not require the participant to sign a lease or occupancy agreement. The cost cannot exceed the reasonable community standard for such housing. Emergency housing is limited to short-term commercial residences (private residences are not eligible for such funding) not already funded to provide on-demand emergency shelter (such as emergency congregate shelters). By authorizing the limited provision of SSVF funded emergency housing, grantees will be able to ensure that participants do not become homeless while they transition to permanent housing or otherwise be put at risk pending placement in permanent housing. Appropriate provision of emergency housing is limited to those cases in which no space is available at a community shelter that would be appropriate for placement of a family unit and where permanent housing has been identified and secured but the participant cannot immediately be placed in that housing. Only families with children under the age of 18 may receive such assistance; individuals are not eligible for SSVF funded emergency housing placement. In the event that longer term transitional housing or emergency housing is needed without such restrictions, VA offers community-based alternatives including, the Grant and Per Diem Program and the Health Care for Homeless Veterans contract residential care program, as well as a variety of VA-based residential care programs.

General Housing Stability Assistance means the provision of goods or payment of expenses not included in other sections, but are directly related to supporting a participant's housing stability. This is a category that may offer a maximum of $1,500 in assistance per participant. Such assistance, when not available through existing mainstream and community resources, may include: (1) Items necessary for a participant's life or safety that are provided to the participant by a grantee on a temporary basis in order to address the participant's emergency situation (limited to $500 per participant under 38 CFR 62.34); (2) Expenses associated with gaining or keeping employment, such as obtaining uniforms, tools, certifications, and licenses; (3) Expenses associated with moving into permanent housing, such as obtaining basic kitchen utensils, bedding, and other supplies; and (4) Expenses necessary for securing appropriate permanent housing, such as fees for applications, brokerage fees, or background checks.

D. Approach: Grantees will be expected to leverage supportive services grant funds to enhance the housing stability of very low-income Veteran families who are occupying permanent housing. In doing so, grantees are required to establish relationships with local community resources. Therefore, agencies must work through coordinated partnerships built either through formal agreements or the informal working relationships commonly found amongst strong social service providers. As part of the application, under 62.22(e), all applicants should provide letters of support from the CoC where they plan to deliver services that reflect the applicant's engagement in the CoC's efforts to coordinate services. A CoC is a community plan to organize and deliver housing and services to meet the needs of people who are homeless as they move to stable housing and maximize self-sufficiency. It includes action steps to end homelessness and prevent a return to homelessness [CoC locations and contact information can be found at the Department of Housing and Urban Development's (HUD) Web site, http://www.hudhre.info/index.cfm?do=viewCocMaps]. This coordination should describe the applicant's participation in the CoC's coordinated assessment efforts (coordinated assessment refers to a common process for accessing homeless assistance services including: Prevention, diversion, emergency shelter, transitional housing, rapid rehousing, supportive services and even permanent supportive housing). In addition, any applicant proposing to serve an Indian Tribal area is expected to provide a letter of support from the relevant Indian Tribal Government. The aim of the provision of supportive services is to assist very low-income Veteran families residing in permanent housing to remain stably housed and to rapidly transition to stable housing. SSVF emphasizes the placement of homeless Veteran families who are described in regulation as (i) very low-income Veteran families who are homeless and scheduled to become residents of permanent housing within 90 days, including those leaving VA's Homeless Providers Grant and Per Diem projects and (ii) very low-income Veteran families who have exited permanent housing within the previous 90 days to seek other housing that is responsive to their needs and preferences. Accordingly, VA encourages eligible entities skilled in facilitating housing stability and experienced in operating rapid re-housing programs (i.e., administering HUD's Homelessness Prevention and Rapid Re-Housing Program HUD's Emergency Solution Grant (ESG), or other comparable Federal or community resources) to apply for supportive services grants. As a crisis intervention program, the SSVF Program is not intended to provide long-term support for participants, nor will it be able to address all of the financial and supportive services needs of participants that affect housing stability. Rather, when participants require long-term support, grantees should focus on connecting such participants to income supports, such as employment and mainstream Federal and community resources (e.g., HUD-VA Supportive Housing (VASH) program, HUD Housing Choice Voucher programs, McKinney-Vento funded supportive housing programs, Temporary Assistance for Needy Families, Social Security Income/Social Security Disability Insurance etc.) that can provide ongoing support as required.

Assistance in obtaining or retaining permanent housing is a fundamental goal of the SSVF Program. Grantees are expected to provide case management services in accordance with 38 CFR 62.31. Such case management should include tenant counseling; mediation with landlords; and outreach to landlords.

E. Authority: Funding applied for under this NOFA is authorized by 38 U.S.C. 2044, as recently amended by the Department of Veterans Affairs Expiring Authorities Act of 2013, Public Law 113-37. VA implements the SSVF Program by regulation in 38 CFR part 62. Funds made available under this NOFA are subject to the requirements of the aforementioned regulations and other applicable laws and regulations.

F. Requirements for the Use of Supportive Services Grant Funds: The grantee's request for funding must be consistent with the limitations and uses of supportive services grant funds set forth in 38 CFR part 62 and this NOFA. In accordance with the regulations and this NOFA, the following requirements apply to supportive services grants awarded under this NOFA:

(1) Grantees may use a maximum of 10 percent of supportive services grant funds for administrative costs identified in § 62.70.

(2) Grantees must use a minimum of 60 percent of supportive services grant (of the grant reward remaining after allowable deductions for administrative costs) funds to serve very low-income Veteran families who either (i) are homeless and scheduled to become residents of permanent housing within 90 days pending the location or development of housing suitable for permanent housing, as described in § 62.11(a)(2), or (ii) have exited permanent housing within the previous 90 days to seek other housing that is responsive to their needs and preferences, as described in § 62.11(a)(3). (Note: Grantees may request a waiver to decrease this minimum to 40 percent, discussed in section V.B.3.i.)

(3) Grantees may use a maximum of 50 percent of supportive services grant funds to provide the supportive service of temporary financial assistance paid directly to a third party on behalf of a participant for child care, emergency housing assistance, transportation, rental assistance, utility-fee payment assistance, security deposits, utility deposits, moving costs, and general housing stability assistance (which includes emergency supplies) in accordance with §§ 62.33 and 62.34. Grantees funded under Priority 1 funding must use a minimum of 40 percent of their supportive services grant (of the grant reward remaining after allowable deductions for administrative costs) funds to provide temporary financial assistance.

G. Guidance for the Use of Supportive Services Grant Funds: It is VA policy to support a “Housing First” model in addressing and ending homelessness. Housing First establishes housing stability as the primary intervention in working with homeless persons. The Housing First approach is based on research that shows a homeless individual or household's first and primary need is to obtain stable housing, and that other issue that may affect the household can and should be addressed as housing is obtained. Research supports this approach as an effective means to end homelessness. Housing is not contingent on compliance with services—instead, participants must comply with a standard lease agreement and are provided with the services and supports that are necessary to help them do so successfully.

1. Consistent with the Housing First model supported by VA, grantees are expected to offer the following supportive services: Housing counseling; assisting participants in understanding leases; securing utilities; making moving arrangements; provide representative payee services concerning rent and utilities when needed; and mediation and outreach to property owners related to locating or retaining housing. Grantees may also assist participants by providing rental assistance, security or utility deposits, moving costs or emergency supplies; or using other Federal resources, such as the HUD's ESG, or supportive services grant funds subject to the limitations described in this NOFA and 38 CFR 62.34.

2. VA recognizes that extremely low-income Veterans, with incomes below 30 percent of the area median income, face greater barriers to permanent housing placement. In order to support grantees' efforts to serve this population, VA has proposed new program regulations that will expand temporary financial assistance that may be offered to these participants. Grantees must consider the proposed rule when developing their response to this NOFA, if the proposed rule is published by February 14, 2014.

3. Grantees are encouraged to provide, or assist participants in obtaining, legal services relevant to issues that interfere with the participants' ability to obtain or retain permanent housing. (Note: Legal services provided may be protected from release or review by the grantee or VA under attorney-client privilege.) Support for legal services can include paying for court filing fees to assist a participant with issues that interfere with the participant's ability to obtain or retain permanent housing or supportive services, including issues that affect the participant's employability and financial security.

4. Access to mental health and addiction services are required by SSVF; however, grantees cannot fund these services directly through the SSVF grant. Therefore, applicants must demonstrate, through either formal or informal agreements, their ability to promote rapid access and engagement to mental health and addiction services for the Veteran and family members.

5. As SSVF is a short-term crisis intervention, grantees must develop plans that will produce sufficient income to sustain Veteran participants in permanent housing after the conclusion of the SSVF intervention. Grantees must ensure the availability of employment and vocational services either through the direct provision of these services or their availability through formal or informal service agreements. Agreements with Homeless Veteran Reintegration Programs funded by the U.S. Department of Labor are strongly encouraged. For participants unable to work due to disability, income must be established through available benefits programs.

6. Notwithstanding any other section in this part, grantees are not authorized to use SSVF funds to pay for the following: (i) Mortgage costs or costs needed by homeowners to assist with any fees, taxes, or other costs of refinancing; (ii) construction or the cost of housing rehabilitation; (iii) credit card bills or other consumer debt; (iv) medical or dental care and medicines; (v) mental health, substance use, or other therapeutic interventions designed to treat diagnostic conditions as defined in the Diagnostic and Statistical Manual of Mental Disorders fifth edition (Note: Although SSVF grant funds cannot be used to pay for the treatment of mental health or substance use disorders, grantees are required to offer such services through formal coordinated relationships with VA and other community providers); (vi) home care and home health aides typically used to provide care in support of daily living activities—this includes care that is focused on treatment for an injury or illness, rehabilitation, or other assistance generally required to assist those with handicaps or other physical limitations; (vii) pet care; (viii) entertainment activities; (ix) direct cash assistance to program participants; or (x) court-ordered judgments or fines.

7. When serving participants who are residing in permanent housing, it is required that the defining question to ask is: “Would this individual or family be homeless but for this assistance?” The grantee must use a VA approved screening tool with criteria that targets those most at-risk of homelessness. To qualify for SSVF services, a Veteran who is served under Category 1 (homeless prevention), the participants must not have sufficient resources or support networks, e.g., family, friends, faith-based or other social networks, immediately available to prevent them from becoming homeless. To further qualify for services under Category 1, the grantee must document that the participant meets at least one of the following conditions:

(a) Has moved because of economic reasons two or more times during the 60 days immediately preceding the application for homelessness prevention assistance;

(b) Is living in the home of another because of economic hardship;

(c) Has been notified in writing that their right to occupy their current housing or living situation will be terminated within 21 days after the date of application for assistance;

(d) Lives in a hotel or motel and the cost of the hotel or motel stay is not paid by charitable organizations or by Federal, State, or local Government programs for low-income individuals;

(e) Is exiting a publicly funded institution, or system of care (such as a health-care facility, a mental health facility, or correctional institution) without a stable housing plan; or

(f) Otherwise lives in housing that has characteristics associated with instability and an increased risk of homelessness, as identified in the recipient's approved screening tool.

8. Where ESG funds or other funds from community resources are not readily available, grantees may choose to utilize supportive services grants, subject to the limitations described in this NOFA and in 38 CFR 62.33 and 62.34, to provide temporary financial assistance. Such assistance may, subject to the limitations in this NOFA and 38 CFR Part 62, be paid directly to a third party on behalf of a participant for child care, transportation, family emergency housing assistance, rental assistance, utility-fee payment assistance, security or utility deposits, moving costs and general housing stability assistance as necessary.

II. Award Information

A. Overview: This NOFA announces the availability of funds for supportive services grants under the SSVF Program and pertains to proposals for initial and renewal supportive services grant programs. Up to $600 million ¹ may be available through this NOFA with up to $300 million available through Priority 1 and approximately $300 million available through Priorities 2 and 3 (combined), subject to available appropriations for Fiscal Year (FY) 2014 and FY 2015. Funding for Priority 1 that is not expended will be made available for Priorities 2 and 3.

¹ The $600 million funding level is composed of both the $300 million in funds appropriated to Medical Services for FY 2014 and the $300 million anticipated from the FY 2015 advance appropriation for Medical Services.

B. Funding: The funding priorities for this NOFA are as follows.

1. Priority 1. Under Priority 1, VA will provide up to $300 million over a 3-year period for non-renewable grants to eligible entities proposing services for one of the 76 priority CoCs listed below. Available funding for each CoC is listed below. Applications must include a letter of support from the VA's Network Homeless Coordinator assigned to the priority city and be endorsed by a CoC located within a priority community to be considered. Each continuum can endorse no more than two applications. Available funding for each CoC is as follows:

Id | CoC Name | Eligible 3 year funding
CA-600 | Los Angeles City & County CoC | $24,000,000
NY-600 | New York City CoC | 12,000,000
CA-500 | San Jose/Santa Clara City & County CoC | 6,000,000
CA-501 | San Francisco CoC | 6,000,000
CA-504 | Santa Rosa/Petaluma/Sonoma County CoC | 6,000,000
CA-514 | Fresno/Madera County CoC | 6,000,000
CA-601 | San Diego City and County CoC | 6,000,000
CA-606 | Long Beach CoC | 6,000,000
CA-614 | San Luis Obispo County CoC (CA-614) | 6,000,000
FL-502 | St. Petersburg/Clearwater/Largo/Pinellas County CoC | 6,000,000
FL-507 | Orlando/Orange, Osceola, Seminole Counties CoC | 6,000,000
GA-500 | Atlanta/Roswell/DeKalb, Fulton Counties CoC | 6,000,000
NV-500 | Las Vegas/Clark County CoC | 6,000,000
OR-501 | Portland/Gresham/Multnomah County CoC | 6,000,000
UT-500 | Salt Lake City & County CoC | 6,000,000
WA-500 | Seattle/King County CoC | 6,000,000
AR-500 | Little Rock/central Arkansas CoC (AR-500) | 3,000,000
AZ-501 | Tucson/Pima County CoC | 3,000,000
AZ-502 | Phoenix/Mesa/Maricopa County Regional CoC | 3,000,000
CA-502 | Oakland/Alameda County CoC | 3,000,000
CA-503 | Sacramento City & County CoC | 3,000,000
CA-506 | Salinas/Monterey, San Benito Counties CoC (CA-506) | 3,000,000
CA-508 | Watsonville/Santa Cruz City & County CoC (CA-508) | 3,000,000
CA-516 | Redding/Shasta CoC (CA-516) | 3,000,000
CA-522 | Humboldt County CoC (CA-522) | 3,000,000
CA-602 | Santa Ana/Anaheim/Orange County CoC | 3,000,000
CA-608 | Riverside City & County CoC | 3,000,000
CA-604 | Bakersfield/Kern County CoC | 3,000,000
CA-609 | San Bernardino City & County CoC | 3,000,000
CO-503 | Metropolitan Denver Homeless Initiative | 3,000,000
CO-504 | Colorado Springs/El Paso County CoC | 3,000,000
DC-500 | District of Columbia CoC | 3,000,000
FL-501 | Tampa/Hillsborough County CoC | 3,000,000
IN-503 | Indianapolis CoC | 3,000,000
FL-504 | Daytona Beach/Daytona/Volusia, Flagler Counties CoC | 3,000,000
FL-510 | Jacksonville-Duval, Clay Counties CoC | 3,000,000
FL-513 | Palm Bay/Melbourne/Brevard County CoC | 3,000,000
FL-600 | Miami/Dade County CoC | 3,000,000
HI-501 | Honolulu CoC | 3,000,000
IL-510 | Chicago CoC | 3,000,000
IL-511 | Cook County CoC | 3,000,000
KS-501 | Kansas City/Independence/Lee's Summit/Jackson County CoC | 3,000,000
KY-501 | Louisville/Jefferson County CoC | 3,000,000
LA-503 | New Orleans/Jefferson Parish CoC | 3,000,000
MA-500 | Boston CoC | 3,000,000
MA-506 | Worcester County CoC (MA-506) | 3,000,000
MA-507 | Pittsfield/Berkshire County CoC (MA-507) | 3,000,000
MD-501 | Baltimore City CoC | 3,000,000
MI-501 | Detroit CoC | 3,000,000
MN-500 | Minneapolis/Hennepin County CoC | 3,000,000
MO-604 | Kansas City CoC (MO-604) | 3,000,000
MT-500 | Montana Statewide CoC | 3,000,000
NC-501 | Asheville/Buncombe County CoC (NC-501) | 3,000,000
NC-507 | Raleigh/Wake County CoC | 3,000,000
NC-511 | Fayetteville/Cumberland County CoC | 3,000,000
NY-603 | Islip/Babylon/Huntington/Suffolk County CoC | 3,000,000
OH-500 | Cincinnati/Hamilton County CoC | 3,000,000
OH-502 | Cleveland/Cuyahoga County CoC | 3,000,000
OH-505 | Dayton/Kettering/Montgomery County CoC | 3,000,000
OR-500 | Eugene/Springfield/Lane County CoC (OR-500) | 3,000,000
OR-502 | Medford/Ashland/Jackson County CoC (OR-502) | 3,000,000
PA-500 | Philadelphia CoC | 3,000,000
PR-503 | South/Southeast Puerto Rico CoC | 3,000,000
RI-500 | Rhode Island Statewide CoC | 3,000,000
SC-502 | Columbia/Midlands CoC | 3,000,000
SC-503 | Myrtle Beach/Sumter City & County CoC | 3,000,000
TN-501 | Memphis/Shelby County CoC | 3,000,000
TX-503 | Austin/Travis County CoC | 3,000,000
TN-504 | Nashville/Davidson County CoC | 3,000,000
TX-600 | Dallas City & County/Irving CoC | 3,000,000
TX-601 | Fort Worth/Arlington/Tarrant County CoC | 3,000,000
TX-603 | El Paso City & County CoC | 3,000,000
TX-700 | Houston/Harris County CoC | 3,000,000
WA-502 | Spokane City & County CoC | 3,000,000
WA-503 | Tacoma/Lakewood/Pierce County CoC | 3,000,000
WI-501 | Milwaukee City & County CoC | 3,000,000
TOTAL |  | 300,000,000

2. Priority 2. Renewal applications can request funding that is up to 2 percent higher than their current award, subject to the $2 million cap per award. (Note: if an existing grantee would like to substantially modify an existing program or request additional funding, the grantee may submit an initial application and apply under Priority 3. Grantees cannot submit more than one application serving the same geographic area). An existing grantee applying for funding for a program that is substantially the same as their existing program, may only apply under Priority 2. Should not enough applications be funded under Priority 2, funds not expended in this priority will fall to Priority 3.

3. Priority 3. Priority 3 is for eligible entities applying for initial supportive services grants.

C. Allocation of Funds: Funding will be awarded under this NOFA to grantees for a 1- to 3-year period. The following requirements apply to Priority 2 and 3 supportive services grants awarded under this NOFA:

(1) Each grant cannot exceed $2 million per year.

(2) The total number of supportive services grants awarded to a grantee cannot exceed seven grants nationwide per year.

(3) Applicants should fill out separate applications for each supportive services funding request.

D. Supportive Services Grant Award Period: All Priority 1 supportive services grants will be for a 3-year, non-renewable period. Priority 3 supportive services grants awarded under this NOFA will be for a 1-year period. Selected Priority 2 grants applying for renewals of existing grants may be eligible for a 3-year award (see VI.C.6).

III. Eligibility Information

A. Eligible Applicants: In order to be eligible, an applicant must qualify as a private non-profit organization (Section 501(c)(3) tax exempt status is required) or a consumer cooperative as has the meaning given such term in Section 202 of the Housing Act of 1959 (12 U.S.C. 1701q). In addition, tribally designated housing entities (as defined in Section 4 of the Native American Housing Assistance and Self-Determination Act of 1996 (25 U.S.C. 4104)) are eligible.

B. Cost Sharing or Matching: This section is not applicable to the SSVF Program.

IV. Application and Submission Information

A. Address To Request Application Package: Download directly from the SSVF Program Web site at www.va.gov/homeless/ssvf.asp or send a written request for an application to SSVF Program Office, National Center on Homelessness Among Veterans, 4100 Chester Avenue, Suite 201, Philadelphia, PA 19104. Any questions regarding this process should be referred to the SSVF Program Office via phone at (877) 737-0111 (toll-free number) or via email at SSVF@va.gov. For detailed SSVF Program information and requirements, see 38 CFR part 62.

B. Content and Form of Application: Two completed, collated, hard copies of the application and two compact discs (CD) containing electronic versions of the entire application are required. Each application copy must (i) be fastened with a binder clip; and (ii) contain tabs listing the major sections of and exhibits to the application. Each CD must be labeled with the applicant's name and must contain an electronic copy of the entire application. A budget template must be attached in Excel format on the CD, but all other application materials may be attached in a PDF or other format.

C. Submission Dates and Times: Applications for supportive services grants under the SSVF Program must be received by the SSVF Program Office by 4:00 p.m. Eastern Time on March 14, 2014. Awards made for Priority 1 supportive services grants will fund operations over a 3-year period beginning October 1, 2014. Awards made for Priority 2 and 3 supportive services grants will fund operations for the fiscal year beginning October 1, 2014. Applications must arrive as a complete package. Materials arriving separately will not be included in the application package for consideration and may result in the application being rejected. Additionally, in the interest of fairness to all competing applicants, this deadline is firm as to date and hour, and VA will treat as ineligible for consideration any application that is received after the deadline. Applicants should take this practice into account and make early submission of their materials to avoid any risk of loss of eligibility brought about by unanticipated delays, computer service outages, or other delivery-related problems.

It should also be noted that in order to encourage the equitable distribution of supportive services grants across geographic regions, in accordance with 38 CFR 62.23(d)(2), under Priority 2 and 3 an eligible entity may apply for a total of $2 million per year in funding per grant (see II.B.1 for award amounts available under Priority 1).

D. Intergovernmental Review: This section is not applicable to the SSVF Program.

E. Funding Restrictions: Up to $600 million may be awarded depending on funding availability and subject to available appropriations for initial and renewal supportive services grants to be funded under this NOFA for a 1- to 3-year period. Applicants should fill out separate applications for each supportive services funding request. Eligible entities applying under Priority 1 are not restricted by award amount or the number of grants they may receive other than what is described in II.B.1. The following requirements apply only to Priority 2 and 3 supportive services grants awarded under this NOFA (any grants received under Priority 1 do not accrue to these limits):

(1) Each grant cannot exceed $2 million per year.

(2) The total number of supportive services grants awarded to a grantee cannot exceed seven grants nationwide per year.

(3) Grants to the same applicant cannot have overlapping service areas.

F. Other Submission Requirements:

(1) Applicants may apply as new applicants or as a grant renewal.

(a) Renewals. Renewal funding (Priority 2) is for existing SSVF Program grantees seeking to renew their supportive services grants. To be eligible for renewal of a supportive services grant, the grantee's program concept must be substantially the same with the program concept of the grantee's current grant award. Renewal applications can request a grant amount that is no more than two percent higher than the grantee's current grant award (subject to the allocation limitations described in Section IV.E of this NOFA). (Note: if an existing grantee would like to modify an existing program, the grantee may respond as a new applicant. Grantees cannot submit more than one application serving the same geographic area). Only an existing grantee applying for funding for a program that is substantially the same as their existing program, may apply using the renewal application.

(b) New Applicants. Eligible entities may apply for funding as new applicants (Priority 3) apply using the application designed for new grants.

(2) Additional supportive services grant application requirements are specified in the initial and renewal application packages. Submission of an incorrect or incomplete application package will result in the application being rejected during threshold review. The application packages must contain all required forms and certifications. Selections will be made based on criteria described in 38 CFR Part 62 and this NOFA. Applicants and grantees will be notified of any additional information needed to confirm or clarify information provided in the application and the deadline by which to submit such information. The application copies and CDs must be submitted to the following address: SSVF Program Office, National Center on Homelessness Among Veterans, 4100 Chester Avenue, Suite 201, Philadelphia, PA 19104. Applicants must submit two hard copies and two CDs. Applications may not be sent by facsimile (FAX).

V. Application Review Information

A. Criteria

1. VA will only score applicants that meet the following threshold requirements:

(a) The application is filed within the time period established in the NOFA, and any additional information or documentation requested by VA under § 62.20(c) is provided within the time frame established by VA;

(b) The application is completed in all parts;

(c) The applicant is an eligible entity;

(d) The activities for which the supportive services grant is requested are eligible for funding under this part;

(e) The applicant's proposed participants are eligible to receive supportive services under this part;

(f) The applicant agrees to comply with the requirements of this part;

(g) The applicant does not have an outstanding obligation to the Federal Government that is in arrears and does not have an overdue or unsatisfactory response to an audit; and

(h) The applicant is not in default by failing to meet the requirements for any previous Federal assistance.

2. VA will use the following criteria to score applicants who are applying for a new supportive services grant:

(a) VA will award up to 35 points based on the background, qualifications, experience, and past performance (with particular focus on housing placement and retention rates for those applicants serving homeless persons), of the applicant, and any subcontractors identified by the applicant in the supportive services grant application.

(b) VA will award up to 25 points based on the applicant's program concept and supportive services plan.

(c) VA will award up to 15 points based on the applicant's quality assurance and evaluation plan.

(d) VA will award up to 15 points based on the applicant's financial capability and plan.

(e) VA will award up to 10 points based on the applicant's area or community linkages and relations.

3. VA will use the following process to select applicants to receive supportive services grants:

(a) VA will score all applicants that meet the threshold requirements set forth in § 62.21 using the scoring criteria set forth in § 62.22.

4. VA will use the following criteria to score grantees applying for renewal of a supportive services grant:

(a) VA will award up to 55 points based on the success of the grantee's program.

(b) VA will award up to 30 points based on the cost-effectiveness of the grantee's program.

(c) VA will award up to 15 points based on the extent to which the grantee's program complies with SSVF Program goals and requirements.

5. VA will use the following process to select grantees applying for renewal of supportive services grants:

(a) So long as the grantee continues to meet the threshold requirements set forth in § 62.21, VA will score the grantee using the scoring criteria set forth in § 62.24. Detailed information regarding application criteria can be found in 38 CFR 62.21-62.25.

B. Review and Selection Process

VA will review all initial and renewal supportive services grant applications in response to this NOFA according to the following steps:

1. Score all applications that meet the threshold requirements described in 38 CFR 62.21.

2. Rank those applications who score at least 70 cumulative points and receive at least one point under each of the categories identified for new applicants in § 62.22, paragraphs (a), (b), (c), (d), and (e) and renewal applicants in § 62.24, paragraphs (a), (b), and (c). The applications will be ranked in order from highest to lowest scores.

3. Utilize the ranked scores of applications as the primary basis for selection. However, in accordance with § 62.23(d), VA will utilize the following considerations to select applicants for funding:

i. Preference applications that provide or coordinate the provision of supportive services for very low-income Veteran families transitioning from homelessness to permanent housing. Consistent with this preference, applicants are required to serve no less than 60 percent of their participants and spend no less than 60 percent of all budgeted temporary financial assistance on homeless participants defined in § 62.11(a)(2) and (a)(3). Waivers to this 60 percent requirement may be requested when grantees can demonstrate significant local progress towards eliminating homelessness in the target service area. Waiver requests must include data from authoritative sources such as HUD's Annual Homeless Assessment Report, annual Point-In-Time Counts and evidence of decreased demand for emergency shelter and transitional housing. Waivers can reduce this 60 percent minimum funding requirement to a 40 percent minimum, with the balance available for participants at imminent risk of homelessness as defined in § 62.11(a)(1). Waivers for the 60 percent requirement may also be requested for services provided to rural Indian tribal areas and other rural areas where shelter capacity is insufficient to meet local need.

ii. To the extent practicable, ensure that supportive services grants are equitably distributed across geographic regions, including rural communities and tribal lands. This equitable distribution criteria will be used to ensure that SSVF resources are provided to those communities with the highest need as identified by authoritative sources such as HUD's Annual Homeless Assessment Report annual Point-In-Time Counts and VA Homeless Registry data.

4. Subject to the considerations noted in paragraph B.3 above, VA will fund the highest-ranked applications for which funding is available.

VI. Award Administration Information

A. Award Notices

Although subject to change, the SSVF Program Office expects to announce grant recipients for all applicants by late summer, 2014 with grants beginning October 1, 2014. Prior to executing a funding agreement, VA will contact the applicants and make known the amount of proposed funding and verify the applicant still would like the funding. Once VA verifies that the applicant is still seeking funding, VA will execute an agreement and make payments to the grant recipient in accordance with 38 CFR 62 and other applicable provisions of this NOFA.

B. Administrative and National Policy Requirements

It is VA's policy to support a “Housing First” model in addressing and ending homelessness. Housing First establishes housing stability as the primary intervention in working with homeless persons. The Housing First approach is based on research that shows a homeless individual or household's first and primary need is to obtain stable housing, and that other issues that may affect the household can and should be addressed as housing is obtained. Housing is not contingent on compliance with services—instead, participants must comply with a standard lease agreement and are provided with the services and supports that are necessary to help them do so successfully. Research supports this approach as an effective means to end homelessness.

Consistent with the Housing First model supported by VA, grantees are expected to offer the following supportive services: Housing counseling; assisting participants in understanding leases; securing utilities; making moving arrangements; provide representative payee services concerning rent and utilities when needed; and mediation and outreach to property owners related to locating or retaining housing. Grantees may also assist participants by providing rental assistance, security or utility deposits, moving costs or emergency supplies, using other Federal resources, such as the ESG, or supportive services grant funds subject to the limitations described in this NOFA and 38 CFR 62.34.

As SSVF grants cannot be used to fund treatment for mental health or substance use disorders, applicants must provide evidence that they can provide access to such services to all program participants through formal and informal agreements with community providers.

C. Reporting

VA places great emphasis on the responsibility and accountability of grantees. As described in 38 CFR 62.63 and 62.71, VA has procedures in place to monitor supportive services provided to participants and outcomes associated with the supportive services provided under the SSVF Program. Applicants should be aware of the following:

1. Upon execution of a supportive services grant agreement with VA, grantees will have a VA regional coordinator assigned by the SSVF Program Office who will provide oversight and monitor supportive services provided to participants.

2. Grantees will be required to enter data into a Homeless Management Information System (HMIS) Web-based software application. This data will consist of information on the participants served and types of supportive services provided by grantees. Grantees must treat the data for activities funded by the SSVF Program separate from that of activities funded by other programs. Grantees will be required to work with their HMIS Administrators to export client-level data for activities funded by the SSVF Program to VA on at least a monthly basis.

3. VA shall complete annual monitoring evaluations of each grantee. Monitoring will also include the submittal of quarterly and annual financial and performance reports by the grantee. The grantee will be expected to demonstrate adherence to the grantee's proposed program concept, as described in the grantee's application. All grantees are subject to audits conducted by VA's Financial Services Center.

4. Grantees will be required to provide each participant with a satisfaction survey which can be submitted by the participant directly to VA, within 45 to 60 days of the participant's entry into the grantee's program and again within 30 days of such participant's pending exit from the grantee's program.

5. Grantees will be assessed based on their ability to meet critical performance measures. In addition to meeting program requirements defined by the regulations and NOFA, grantees will be assessed on their ability to place participants into housing and the housing retention rates of participants served. Higher placement for homeless participants and higher housing retention rates for at-risk participants are expected for very-low income Veteran families when compared to extremely low-income Veteran families with incomes below 30 percent of the area median income.

6. Organizations receiving renewal awards and that have had ongoing SSVF Program operation for at least 1 year (as measured by the start of initial SSVF services until March 14, 2014) may be eligible for a 3-year award. Grantees meeting outcome goals defined by VA and in substantial compliance with their grant agreements (defined by meeting targets and having no outstanding corrective action plans) and who, in addition, receive 3-year accreditation from the Commission on Accreditation of Rehabilitation Facilities in Employment and Community Services (CARF) or a 4-year accreditation from the Council on Accreditation's (COA) accreditation in Case Management services are eligible for a 3-year grant renewal pending funding availability. (Note: Multi-year awards are contingent on funding availability.) If awarded a multiple year renewal, grantees may be eligible for funding increases as defined in NOFAs that correspond to years 2 and 3 of their renewal funding.

7. Organizations that received a 2-year award in the previous NOFA (awards that were announced July 13, 2013) can receive an additional 1-year extension with proof of CARF or COA accreditation (as described in C.6.) supplied by the application deadline. Organizations requesting this 1-year extension to their current 2-year grant award only need to submit this proof of accreditation and do not need to submit any additional application information.

VII. Agency Contact

A. For further information contact: John Kuhn, Supportive SSVF Program Office, National Center on Homelessness Among Veterans, 4100 Chester Avenue, Suite 201, Philadelphia, PA 19104; (877) 737-0111 (this is a toll-free number); SSVF@va.gov.

VIII. Other Information

A. VA's Goals and Objectives for Funds Awarded Under This NOFA

In accordance with 38 CFR 62.22(b)(6), VA will evaluate an applicant's ability to meet VA's goals and objectives for the SSVF Program. VA's goals and objectives include the provision of supportive services designed to enhance the housing stability and independent living skills of very low-income Veteran families occupying permanent housing across geographic regions. For purposes of this NOFA, VA's goals and objectives also include the provision of supportive services designed to rapidly re-house or prevent homelessness among people in the following target populations who also meet all requirements for being part of a very low-income Veteran family occupying permanent housing:

1. Veteran families earning less than 30 percent of area median income as most recently published by HUD for programs under section 8 of the United States Housing Act of 1937 (42 U.S.C. 1437f) (http://www.huduser.org).

2. Veterans with at least one dependent family member.

3. Veterans returning from Operation Enduring Freedom, Operation Iraqi Freedom, or Operation New Dawn.

4. Veteran families located in a community, as defined by HUD's CoC, not currently served by a SSVF grantee.

5. Veteran families located in a community, as defined by HUD's CoC, where current level of SSVF services is not sufficient to meet demand of Category 2 and 3 (currently homeless) Veteran families.

6. Veteran families located in a rural area.

7. Veteran families located on Indian Tribal Property.

B. Payments of Supportive Services Grant Funds: Grantees will receive payments electronically through the U.S. Department of Health and Human Services Payment Management System. Grantees will have the ability to request payments as frequently as they choose subject to the following limitations:

1. During the first quarter of the grantee's supportive services grant award period, the grantee's cumulative requests for supportive services grant funds may not exceed 35 percent of the total supportive services grant award without written approval by VA.

2. By the end of the second quarter of the grantee's supportive services grant award period, the grantee's cumulative requests for supportive services grant funds may not exceed 60 percent of the total supportive services grant award without written approval by VA.

3. By the end of the third quarter of the grantee's supportive services grant award period, the grantee's cumulative requests for supportive services grant funds may not exceed 80 percent of the total supportive services grant award without written approval by VA.

4. By the end of the fourth quarter of the grantee's supportive services grant award period, the grantee's cumulative requests for supportive services grant funds may not exceed 100 percent of the total supportive services grant award.

Dated: December 20, 2013.
Jose D. Riojas,
Chief of Staff, Department of Veterans Affairs.

[FR Doc. 2014-00289 Filed 1-13-14; 8:45 am]

BILLING CODE 8320-01-P